ENVIRONMENTAL PROTECTION AGENCY

[FRL-8921-8]

Science Advisory Board Staff Office Notification of an Upcoming Meeting of the Science Advisory Board Ecological Processes and Effects Committee

AGENCY: Environmental Protection Agency (EPA).

ACTION: Notice.

SUMMARY: The Environmental Protection Agency (EPA or Agency) Science Advisory Board (SAB) Staff Office announces a public meeting of the SAB Ecological Processes and Effects Committee to provide advice on EPA's implementation of the Ecosystem Services Research Program.

DATES: The meeting dates are Tuesday, July 14, 2009 from 9 a.m. to 5 p.m. (Eastern Time) and Wednesday, July 15, 2009 from 8:30 a.m. to 12 noon (Eastern Time).

ADDRESSES: The meeting will be held at the SAB Conference Center, 1025 F Street, NW., Room 3705, Washington, DC 20004.

FOR FURTHER INFORMATION CONTACT: Members of the public who wish to obtain further information about this meeting must contact Dr. Thomas Armitage, Designated Federal Officer (DFO). Dr. Armitage may be contacted at the EPA Science Advisory Board (1400F), U.S. Environmental Protection Agency, 1200 Pennsylvania Avenue, NW., Washington, DC 20460; or via telephone/voice mail; (202) 343-9995; fax (202) 233-0643; or e-mail at armitage.thomas@epa.gov. Any inquiry regarding EPA's Ecosystem Services Research Program should be directed to Dr. Rick Linthurst of EPA's Office of Research and Development at linthurst.rick@epa.gov or (919) 541-4909. General information about the EPA SAB, as well as any updates concerning the meeting announced in this notice, may be found on the SAB Web site at http://www.epa.gov/sab.

SUPPLEMENTARY INFORMATION: Pursuant to the Federal Advisory Committee Act, Public Law 92-463, notice is hereby given that the SAB Ecological Processes and Effects Committee will hold a public meeting to provide consultative comment on implementation of EPA's Ecosystem Services Research Program. The SAB was established by 42 U.S.C. 4365 to provide independent scientific and technical advice to the Administrator on the technical basis for Agency positions and regulations. The SAB is a Federal Advisory Committee chartered under the Federal Advisory Committee Act (FACA), as amended, 5 U.S.C., App. 2. The SAB will comply with the provisions of FACA and all appropriate SAB Staff Office procedural policies.

Background: In February 2008, The EPA Office of Research and Development (ORD) released a draft Ecological Research Program Multi-Year Plan that established EPA's long-term and annual goals for ecological research. This draft Multi-Year Plan is available on the EPA Office of Research and Development Web site at http://epa.gov/ord/esrp/pdfs/ERP-MYP-complete-draft-v5.pdf. The Multi-Year Plan described a new direction for the Agency's Ecological Research Program intended to fill the need for a better understanding of the implications of human impacts on ecosystems and the services they provide. The redirected Ecological Research Program is building on past research efforts in ecosystem monitoring, restoration, and functioning to develop operational methods for incorporating quantitative information on ecosystem services into decision making.

In 2008 the SAB Ecological Processes and Effects Committee reviewed EPA's draft Ecological Research Program Multi-year Plan. The findings and recommendations of that SAB review are available on the SAB Web site at http://www.epa.gov/sab (see report EPA-SAB-08-011). The SAB Staff Office selected several additional SAB committee members with expertise in valuing ecosystem services to augment the expertise on the Ecological Processes and Effects Committee for that advisory activity.

The ORD has requested further consultation with the SAB regarding the implementation of the Ecosystem Services Research program. This consultation will be conducted by the augmented SAB Ecological Processes and Effects Committee. The purpose of the upcoming meeting of this Committee is to provide consultative advice on the current direction of high priority areas of the Ecosystem Services Research Program and the specific research projects that have been undertaken. The roster and biosketches of Committee members are posted on the SAB Web site at http://www.epa.gov/sab.

Availability of Meeting Materials: The meeting agenda, charge to the SAB Committee, and other meeting material will be posted on the SAB Web site at https://www.epa.gov/sab in advance of the meeting.

Procedures for Providing Public Input: Interested members of the public may submit relevant written or oral information on the topic of this advisory activity, and/or the group conducting the activity, for the SAB to consider during the advisory process.

Oral Statements: In general, individuals or groups requesting an oral presentation at a public meeting will be limited to five minutes per speaker, with no more than a total of one hour for all speakers. Interested parties should contact Dr. Armitage, DFO, in writing (preferably via e-mail) at the contact information noted above by July 6, 2009 to be placed on a list of public speakers for the meeting. Written Statements: Written statements should be received in the SAB Staff Office by July 6, 2009 so that the information may be made available to the SAB Committee members for their consideration. Written statements should be supplied to the DFO in the following formats: one hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Dr. Armitage at the phone number or e-mail address noted above, preferably at least ten days prior to the meeting to give EPA as much time as possible to process your request.

Dated: June 16, 2009.
Anthony F. Maciorowski,
Deputy Director, EPA Science Advisory Board Staff Office.

[FR Doc. E9-14713 Filed 6-22-09; 8:45 am]

BILLING CODE 6560-50-P